DEPARTMENT OF COMMERCE

National Oceanic and Atmospheric Administration

50 CFR Part 635

[Docket No. 100315147-0403-02]

RIN 0648-XV31

Atlantic Highly Migratory Species; North and South Atlantic Swordfish Quotas

AGENCY: National Marine Fisheries Service (NMFS), National Oceanic and Atmospheric Administration (NOAA), Commerce.

ACTION: Final rule.

SUMMARY: This final rule adjusts the North and South Atlantic swordfish quotas for the 2010 fishing year (January 1, 2010, through December 31, 2010) to account for 2009 underharvest and implement International Commission for the Conservation of Atlantic Tunas (ICCAT) Recommendations 09-02 and 09-03, which maintain the U.S. allocation of the international total allowable catch (TAC). This rule could affect commercial and recreational fishing for swordfish in the Atlantic Ocean, including the Caribbean Sea and Gulf of Mexico, by establishing annual quotas, although generally the levels of fishing effort and quota are expected to be similar to those previously published for the years 2008 through 2010.

DATES: This rule is effective from October 21, 2010, through December 31, 2010.

ADDRESSES: Copies of the supporting documents—including the 2007 Environmental Assessment (EA), Regulatory Impact Review (RIR), Final Regulatory Flexibility Analysis (FRFA), and the 2006 Consolidated Atlantic Highly Migratory Species (HMS) Fishery Management Plan (FMP)—are available from the HMS Web site at http://www.nmfs.noaa.gov/sfa/hms/.

FOR FURTHER INFORMATION CONTACT: Delisse Ortiz or Karyl Brewster-Geisz by phone: 301-713-2347 or by fax: 301-713-1917.

SUPPLEMENTARY INFORMATION: The U.S. Atlantic swordfish fishery is managed under the 2006 Consolidated HMS FMP. Implementing regulations at 50 CFR part 635 are issued under the authority of the Magnuson-Stevens Fishery Conservation and Management Act (Magnuson-Stevens Act), 16 U.S.C. 1801 et seq., and the Atlantic Tunas Convention Act (ATCA), 16 U.S.C. 971 et seq. Regulations issued under the authority of ATCA carry out the recommendations of ICCAT as necessary and appropriate.

Information on the specific measures laid out in the proposed rule can be found in 75 FR 35432 (June 22, 2010) and are not repeated here. A brief summary of the actions in this final rule can be found below.

North Atlantic Swordfish Quota

This final rule adjusts the total available quota for the 2010 fishing year (January 1, 2010, through December 31, 2010) to account for 2009 underharvest and transfers 18.8 metric tons (mt) dressed weight (dw) to Canada from the reserve category in the North Atlantic in conformance with ICCAT Recommendation 09-02, which extended the provisions of ICCAT Recommendation 6-02 through 2010.

The 2010 North Atlantic swordfish baseline quota is 2,937.6 mt dw. The total North Atlantic swordfish underharvest for 2009 was 2,524.2 mt dw, which exceeds the maximum carryover cap of 1,468.8 mt dw, established in ICCAT Recommendation 06-02 and extended by ICCAT Recommendation. Therefore, NMFS is carrying forward the amount allowed by the recommendation. Thus, the baseline quota plus the underharvest carryover maximum of 1,468.8 mt dw equals an adjusted quota of 4,406.4 mt dw for the 2010 fishing year (Table 1).

South Atlantic Swordfish Quota

The 2010 South Atlantic swordfish baseline quota is 75.2 mt dw. The total South Atlantic swordfish underharvest for 2009 was 150.4 mt dw, which exceeds the maximum carryover cap of 75.2 mt dw, established in ICCAT Recommendation 06-03 and extended by ICCAT Recommendation 09-02. In addition, under ICCAT Recommendation 09-03, 100 mt ww (75.2 mt dw) of U.S. quota for 2010 was transferred to other countries. Therefore, NMFS is carrying over the capped amount and transferring the 75.2 mt dw from the available underharvest in the South Atlantic swordfish quota to other countries per the ICCAT recommendation. As a result, the baseline quota plus the underharvest carryover maximum of 75.2 mt dw, substracted by the transfer of 100 mt ww (75.2 mt dw) to other countries equal an adjusted quota of 75.2 mt dw for the 2010 fishing year (Table 1).

Response to Comments

NMFS received two comments on the proposed rule which are summarized below, together with NMFS's responses.

Comment: NMFS received one comment in opposition to the establishment of North and South Atlantic commercial swordfish quotas. The first comment, made anonymously, expressed general opposition to the establishment of quotas for this fishery. The second comment, made by the Mid-Atlantic Fishery Management Council, supports the proposed rule.

Response: The establishment of annual swordfish quotas is necessary to comply with ICCAT Recommendation 06-02 (extended via ICCAT Recommendation 09-02) and 06-03 (extended via ICCAT Recommendation 09-03). Under ATCA, the United States is obligated to implement the ICCAT-approved recommendations as necessary and appropriate to achieve domestic management objectives under the Magnuson-Stevens Act.

Changes From the Proposed Rule

The final rule is not substantially changed from the proposed rule.

Table 1—Landings and Quotas for the Atlantic U.S. Swordfish Fisheries (2005-2010)
North Atlantic Swordfish Quota (mt dw) | 2005 | 2006 | 2007 | 2008 | 2009 | 2010
Baseline Quota | 2,937.6 | 2,937.6 | 2,937.6 | 2,937.6 | 2,937.6 | 2,937.6
Quota Carried Over | 3,359.1 | 4,691.2 | 1,468.8 | 1,468.8 | 1,468.8 | 1,468.8
Adjusted quota | 6,296.7 | 7,628.8 | 4,406.4 | 4,406.4 | 4,406.4 | 4,406.4
Quota Allocation:
Directed Category | 5,895.2 | 7,246.1 | 3,601.9 | 3,620.7 | 3,639.5 | 3,658.3
Incidental Category | 300.0 | 300.0 | 300.0 | 300.0 | 300.0 | 300.0
Reserve Category | 101.5 | 82.7 | 504.5 | 485.7 | 466.9 | 448.1
Utilized Quota:
Landings | 1,471.8 | 1,291.5 | 1,167.5 | 1,695.7 | 1,863.4 | TBD
Reserve Transfer to Canada | 18.8 | 18.8 | 18.8 | 18.8 | 18.8 | 18.8
Total Underharvest | 4,806.1 | 6,318.5 | 3,220.1 | 2,691.9 | 2,524.20 | TBD
Dead Discards | 114.9 | 154.9 | 149.2 | 149.8 | TBD | TBD
Carryover Available + | 4,691.2 | 1,468.8 | 1,468.8 | 1,468.8 | 1,468.8 | TBD

South Atlantic Swordfish Quota (mt dw) | 2005 | 2006 | 2007 | 2008 | 2009 | 2010
Baseline Quota | 75.2 | 90.2 | 75.2 | 75.2 | 75.2 | 75.2
Quota Carried Over | 319.3 | 394.5 | 75.2 | 75.2 | 75.2 | 0.0
Adjusted quota | 394.5 | 484.7 | 150.4 | 150.4 | 150.4 | 75.2
Landings | 0.0 | 0.0 | 0.0 | 0.0 | 0.0 | TBD
Carryover Available | 394.5 | 75.2 | 75.2 | 75.2 | *0.0 | TBD
+ Under harvest is capped at 50 percent of the baseline quota allocation for the North Atlantic and 100 mt ww (75.2 dw) for the South Atlantic.
* Under 09-03, 100 mt ww of the U.S. underharvest was transferred to Namibia (50 mt ww, 37.6 mt dw), Cote d' Ivore (25 mt ww, 18.8 mt dw), and Belize (25 mt ww, 18.8 mt dw).

Classification

The Assistant Administrator for Fisheries has determined that this final rule is necessary for the conservation and management of Atlantic swordfish and that it is consistent with the 2006 Consolidated HMS FMP, the Magnuson-Stevens Act, ATCA, and other applicable law.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

Authority: 16 U.S.C. 1801 et seq. and 16 U.S.C. 971 et seq.

Dated: September 15, 2010.
Samuel D. Rauch III,
Deputy Assistant Administrator For Regulatory Programs, National Marine Fisheries Service.

[FR Doc. 2010-23528 Filed 9-20-10; 8:45 am]

BILLING CODE 3510-22-P